DEPARTMENT OF JUSTICE

Notice of Lodging of Proposed Consent Decree Under the Comprehensive Environmental Response, Compensation and Liability Act

On January 3, 2020, the Department of Justice lodged a proposed Consent Decree with the United States District Court for the District of New Jersey in the lawsuit entitled United States v. Fisher Scientific Company, L.L.C. and Sandvik, Inc. Civil Action No. 2:20-cv-135.

The United States filed this lawsuit under the Comprehensive Environmental Response, Compensation and Liability Act (CERCLA). The United States' complaint names Fisher Scientific Company, L.L.C. and Sandvik, Inc. as defendants. The complaint requests recovery of costs that the United States incurred and will incur responding to releases of hazardous substances at the Fair Law Well Field Superfund Site in Fair Lawn, New Jersey. The complaint also seeks injunctive relief. Both defendants signed the consent decree. They will perform the remedial action that EPA selected for the site and pay any response costs above the amount that the United States recovered from Eastman Kodak Company in a 2014 bankruptcy settlement. In return, the United States agrees not to sue the defendants under sections 106 and 107 of CERCLA with respect to the site. The publication of this notice opens a period for public comment on the consent decree. Comments should be addressed to the Assistant Attorney General, Environment and Natural Resources Division, and should refer to United States v. Fisher Scientific Company, L.L.C. and Sandvik, Inc. D.J. Ref. No. 90-11-3-12072. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the Consent Decree may be examined and downloaded at this Justice Department website: https://www.justice.gov/enrd/consent-decrees. We will provide a paper copy of the Consent Decree upon written request and payment of reproduction costs. Please mail your request and payment to: Consent Decree Library, U.S. DOJ—ENRD, P.O. Box 7611, Washington, DC 20044-7611.

Please enclose a check or money order for $88.50 (25 cents per page reproduction cost) payable to the United States Treasury. For a paper copy without the exhibits and signature pages, the cost is $9.50.

Henry Friedman,
Assistant Section Chief, Environmental Enforcement Section, Environment and Natural Resources Division.

[FR Doc. 2020-00226 Filed 1-9-20; 8:45 am]

BILLING CODE 4410-15-P